DEPARTMENT OF TRANSPORTATION

Maritime Administration

[Docket No. MARAD-2018-0029]

Request for Comments on the Renewal of a Previously Approved Information Collection: Quarterly Readiness of Strategic Seaport Facilities Reporting

AGENCY: Maritime Administration, DOT.

ACTION: Notice and request for comments.

SUMMARY: The Maritime Administration (MARAD) invites public comments on our intention to request the Office of Management and Budget (OMB) approval to renew an information collection. The information to be collected will be used by MARAD and Department of Defense (DoD) personnel to evaluate strategic commercial seaport readiness to meet contingency military deployment needs and make plans for the use of this capability to meet national emergency requirements. We are required to publish this notice in the Federal Register by the Paperwork Reduction Act of 1995.

DATES: Comments must be submitted on or before May 4, 2018.

ADDRESSES: You may submit comments [identified by Docket No. DOT-MARAD-2018-0029] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Nuns Jain, (757) 322-5801, Maritime Administration, U.S. Department of Transportation, 7737 Hampton Boulevard, Building 19, Suite 300, Norfolk, VA 23505 or Email: nuns.jain@dot.gov.

SUPPLEMENTARY INFORMATION: Title: Quarterly Readiness of Strategic Seaport Facilities Reporting.

OMB Control Number: 2133-0548.

Type of Request: Renewal of a Previously Approved Information Collection.

Abstract: Pursuant to the Defense Production Act of 1950, as amended (Pub. L. 111-67), E.O. 13603, E.O. 12656 and 46 CFR part 340, MARAD works with the DoD to ensure national defense preparedness. Accordingly, MARAD issues Port Planning Orders (PPOs) to Department of Defense-designated Strategic Commercial Seaports in order to provide the Department of Defense (DoD) port facilities in support of military deployments during national emergencies. The collection of quarterly information is necessary to validate the port's ability to provide the PPO delineated facilities to the DoD within the PPO delineated time frame.

Quarterly reports will seek information related to berthing capability, staging and general availability of the port by readiness hours.

Respondents: Strategic Commercial Seaports who have been designated by the Commander, Military Surface Deployment and Distribution Command (SDDC) and who have been issued a PPO by MARAD.

Estimated Number of Respondents: 16.

Estimated Number of Responses: 4.

Estimated Hours per Response: 1 hour.

Annual Estimated Total Annual Burden Hours: 64.

Frequency of Response: Quarterly.

(Authority: The Paperwork Reduction Act of 1995; 44 U.S.C. Chapter 35, as amended; and 49 CFR 1.93.) * * *

By order of the Maritime Administrator.
Dated: February 27, 2018.
T. Mitchell Hudson, Jr.,
Secretary, Maritime Administration.

[FR Doc. 2018-04356 Filed 3-2-18; 8:45 am]

BILLING CODE 4910-81-P